DEPARTMENT OF COMMERCE

Foreign-Trade Zones Board

[Docket 17-2004]

Foreign-Trade Zone 84—Houston, TX; Application for Subzone, Michelin North America (Tire and Tire Accessories Distribution), Houston, TX

An application has been submitted to the Foreign-Trade Zones Board (the Board) by the Port of Houston Authority, grantee of FTZ 84, requesting special-purpose subzone status for the tire and tire accessory warehousing/distribution facility of Michelin North America (MNA), in Houston, Texas. The facility is located within the Houston-Galveston CBP port of entry. The application was submitted pursuant to the provisions of the Foreign-Trade Zones Act, as amended (19 U.S.C. 81a-81u), and the regulations of the Board (15 CFR part 400). It was formally filed on April 29, 2004.

The MNA facility (1 building, 660,000 sq. ft. on 40.6 acres) is located at 8800 City Park Loop, Houston (Harris County), Texas. The facility (50 employees) is used for the warehousing and distribution of tires and tire accessories (including tire flaps, inner tubes and gaskets), activities which MNA intends to perform under FTZ procedures. Some 30 percent of the tires are sourced abroad. About 10 percent of MNA's tire sales are currently exported.

Zone procedures would exempt MNA from Customs duty payments on foreign products that are re-exported. On domestic sales, the company would be able to defer payments until merchandise is shipped from the plant. FTZ designation would further allow MNA to utilize certain Customs procedures resulting in increased efficiencies for its logistics and distribution operations. MNA would be able to avoid duty on foreign inputs which become scrap/waste, estimated at 1-3 percent of total inventory. FTZ status may also make a site eligible for benefits provided under State/local programs. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is July 6, 2004. Rebuttal comments in response to material submitted during the foregoing period may be submitted during the subsequent 15-day period (to July 20, 2004).

A copy of the application and accompanying exhibits will be available for public inspection at the Office of the Foreign-Trade Zones Board's Executive Secretary at address Number 1 listed above, and at the U.S. Department of Commerce Export Assistance Center, 15600 John F. Kennedy Blvd., Suite 530, Houston, TX 77032.

Dated: April 29, 2004.
Dennis Puccinelli,
Executive Secretary.

[FR Doc. 04-10332 Filed 5-5-04; 8:45 am]

BILLING CODE 3510-DS-P